DEPARTMENT OF COMMERCE

National Institute of Standards and Technology

Advanced Technology Program (ATP) Advisory Committee

AGENCY: National Institute of Standards and Technology (NIST), Department of Commerce.

ACTION: Request for nominations of members to serve on the Advanced Technology Program Advisory Committee.

SUMMARY: NIST invites and requests nomination of individuals for appointment to the Advanced Technology Program Advisory Committee. NIST will consider nominations received in response to this notice for appointment to the Committee, in additional to nominations already received.

DATES: Please submit nominations on or before July 1, 2002.

ADDRESSES: Please submit nominations to Mr. Marc Stanley, National Institute of Standards and Technology, 100 Bureau Drive, Mail Stop 4700, Gaithersburg, MD 20899-4700. Nominations may also be submitted via FAX to 301-869-1150.

Additional information regarding the Committee, including its charter and current membership list may be found on its electronic home page at: http://www.atp.nist.gov/atp/adv_com/ac_menu.htm.

FOR FURTHER INFORMATION CONTACT: Mr. Marc Stanley, National Institute of Standards and Technology, 100 Bureau Drive, Mail Stop 4700, Gaithersburg, MD 20899-4700; telephone 301-975-4644, fax 301-301-869-1150; or via email at marc.stanley@nist.gov.

SUPPLEMENTARY INFORMATION: The Committee will advise the Director of the National Institute of Standards and Technology (NIST) on ATP programs, plans, and policies.

The Committee will consist of not fewer than six nor more than twelve members appointed by the Director of NIST and its membership will be balanced to reflect the wide diversity of technical disciplines and industrial sectors represented in ATP projects.

The Committee will function solely as an advisory body, in compliance with the provisions of the Federal Advisory Committee Act.

Authority: Federal Advisory Committee Act: 5 U.S.C. App. 2 and General Services. Administration Rule: 41 CFR Subpart 101-6.10.

Dated: June 6, 2002.
Karen H. Brown,
Deputy Director.

[FR Doc. 02-15029 Filed 6-13-02; 8:45 am]

BILLING CODE 3510-13-P